DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Backbone-Substituted Bifunctional DOTA Ligands, Complexes and Compositions Thereof, and Methods of Using the Same

Martin Brechbiel, Hyun-soon Chung (NCI), DHHS Reference No. E-035-2002 filed 06 Sep 2002, Licensing Contact: Matthew Kiser; 301/435-5236; kiserm@od.nih.gov.

The subject technology is directed to three backbone-substituted 1,4,7,10-tetraazacyclododecane (DOTA) compounds. These compounds can be chelated with radionuclides and used as imaging or therapeutic agents. In particular, the compounds can be complexed with a paramagnetic element (e.g. Gd (III)) and used as contrast agents in magnetic resonance imaging (MRI) applications.

The DOTA derivatives of the invention are such that the macrocyclic backbone was pre-arranged or pre-organized in order to lower the energy barrier to complex formation, thereby potentially increasing the rate of complex formation. The pre-organization and macrocyclic effect of the DOTA sub-structure accelerates complexation with metal ions and isotopes (e.g. Y (III), Gd (III); etc.), while maintaining a high level of stability of the complexes.

Alleviating Symptoms of Th2-Like Cytokine Mediated Disorders by Reducing IL-13 Receptor-Expressing Cells in the Respiratory Tract

Raj K. Puri et al. (FDA), PCT application PCT/US02/00616, which claims priority to U.S. Provisional Patent Application 60/337,179 (E-296-01/0) filed December 4, 2001, Licensing Contact: Brenda Hefti; 301/435-4632; heftib@od.nih.gov.

This invention relates to the alleviation of symptoms of Th2-like cytokine mediated disorders, such as allergy, asthma, and to hyperinflammatory responses in the respiratory tract to infectious diseases and parasitic infections, including tuberculosis, schistosomiasis, leishmania, and filiarsis.

This invention claims a variety of methods and uses of a chimeric molecule comprising a toxic moiety and a targeting moiety that specifically binds to a cell surface receptor for IL-13, to alleviate symptoms of a variety of respiratory disorders. This method has been proven successful in various mouse models in vivo.

Use of Mx GTPases in the Prognosis and Treatment of Cancer

J. Frederic Mushinski, Jane B. Trepel, Michel Andre Horisberger, PhuongMai Nguyen, Chand Khanna (NCI), DHHS Reference No. E-292-01/0 filed 18 Oct 2001, Licensing Contact: Matthew Kiser; 301/435-5236; kiserm@od.nih.gov.

The present invention describes novel approaches in the diagnosis, reduction of progression and treatment of cancer using Mx GTPases (Mxs) and Mx-encoding nucleic acids. The diagnostic benefits of this invention include methods of assessing the metastatic potential of cancer cells by determining the level of an Mx or Mx-encoding nucleic acid present in the cells. This invention also provides a method for administration of an Mx or expression of a nucleic acid encoding an Mx at, in, or near cancer cells, as well as a method for systemic induction of an Mx protein to reduce cancer progression in both solid tumors and hematologic malignancies.

Use of a Promoter of T-Cell Expansion and an Inducer of CD40 Stimulation in the Treatment or Prevention of a Pathologic State

William J. Murphy, Robert Wiltrout, Bruce Blazar, Susan E. Wilson (NCI), DHHS Reference Nos. E-150-01/0 filed 23 Aug 2001 and E-150-01/1 filed 23 Aug 2002, Licensing Contact: Matthew Kiser; 301/435-5236; kiserm@od.nih.gov.

The present invention provides a method for the prevention and treatment of pathologic states in mammals by administering a promoter of T-cell expansion with an inducer of CD40 stimulation in synergistically effective amounts. The disclosed invention could provide treatments for cancers, viral infections, HIV, bacterial infections, fungal infections, and allergic conditions. A method for assessing the treatment administered is also described.

Dated: November 19, 2002.
Jack Spiegel,
Director, Division of Technology Development and Transfer, Office of Technology Transfer, National Institutes of Health.

[FR Doc. 02-30227 Filed 11-27-02; 8:45 am]

BILLING CODE 4140-01-P